ENVIRONMENTAL PROTECTION AGENCY

[ER-FRL-9031-8]

Environmental Impact Statements; Notice of Availability

Responsible Agency: Office of Federal Activities, General Information (202) 564-7146 or http://www.epa.gov/nepa.

Weekly receipt of Environmental Impact Statements

Filed 02/13/2017 through 02/17/2017

Pursuant to 40 CFR 1506.9.

Notice: Section 309(a) of the Clean Air Act requires that EPA make public its comments on EISs issued by other Federal agencies. EPA's comment letters on EISs are available at: http://www.epa.gov/compliance/nepa/eisdata.html.

EIS No. 20170025, Draft, HUD, NJ, Rebuild by Design Hudson River: Resist, Delay, Store, Discharge Project, Comment Period Ends: 04/10/2017, Contact: Dennis Reinknecht 609-984-7855. The New Jersey Department's of Environmental Protection and Community Affairs is Co-Lead Agency for this project.

EIS No. 20170026, Final, USFS, WY, Teton to Snake Fuels Management, Review Period Ends: 03/27/2017, Contact: Steve Markason 307-739-5431.

EIS No. 20170027, Final, NMFS, Other, Final Amendment 5b to the 2006 Consolidated Atlantic Highly Migratory Species Fishery Management Plan, Review Period Ends: 03/27/2017, Contact: Margo Schulze-Haugen 301-427-8503.

Amended Notices

EIS No. 20160312, Draft, USFWS, CA, City of San Diego Vernal Pool HCP EIS, Comment Period Ends: 02/21/2017, Contact: Dan Cox 916-414-6539. Revision to FR Notice Published 12/30/2016; Correcting Comment Period to end 02/21/2017 not 03/06/2017.

EIS No. 20170000, Draft, NOAA, CA, Calam Monterey Peninsula Water Supply Project, Comment Period Ends: 03/29/2017, Contact: Karen Grimmer 831-647-4253. Revision to the FR Notice Published 01/13/2017; Extending Comment Period from 02/27/2017 to 03/29/2017.

Dated: February 21, 2017.
Dawn Roberts,
Management Analyst, NEPA Compliance Division, Office of Federal Activities.

[FR Doc. 2017-03689 Filed 2-23-17; 8:45 am]

BILLING CODE 6560-50-P